DEPARTMENT OF THE INTERIOR

Fish and Wildlife Service

[Docket No. FWS-R8-ES-2024-0188; FXES11140800000-256-FF08EVEN00]

Receipt of Incidental Take Permit Application and Proposed Habitat Conservation Plan for the Coastal California Gnatcatcher, Ventura County, CA; Categorical Exclusion

AGENCY: Fish and Wildlife Service, Interior.

ACTION: Notice of availability; request for comment.

SUMMARY: We, the Fish and Wildlife Service (Service), announce receipt of an application from Angie Harbin, Director—Natural Resources, Rincon Consultants, Inc., on behalf of Comstock Homes (applicant) for an incidental take permit (ITP) under the Endangered Species Act. The applicant requests the ITP to take the federally listed coastal California gnatcatcher (Polioptila californica californica) incidental to residential development in the City of Moorpark, in Ventura County, California. We request public comment on the application, which includes the applicant's proposed habitat conservation plan (HCP), and on the Service's preliminary determination that the proposed permitting action may be eligible for a categorical exclusion pursuant to the Council on Environmental Quality's National Environmental Policy Act (NEPA) regulations, the Department of the Interior's (DOI) NEPA regulations, and the DOI Departmental Manual. To make this preliminary determination, we prepared a low-effect screening form. The HCP and low-effect screening form are available for public review. We invite comment from the public and local, State, Tribal, and Federal agencies.

DATES: We must receive your written comments on or before February 7, 2025.

ADDRESSES:

Obtaining Documents: The documents this notice announces, as well as any comments and other materials that we receive, will be available for public inspection online in Docket No. FWS-R8-ES-2024-0188 at https://www.regulations.gov.

Submitting Comments: If you wish to submit comments on any of the documents, you may do so in writing by one of the following methods:

• Online: https://www.regulations.gov. Follow the instructions for submitting comments on Docket No. FWS-R8-ES-2024-0188.

• U.S. mail: Public Comments Processing; Attn: Docket No. FWS-R8-ES-2024-0188; U.S. Fish and Wildlife Service; MS: PRB/3W; 5275 Leesburg Pike; Falls Church, VA 22041-3803.

FOR FURTHER INFORMATION CONTACT: Mr. Chris Dellith, Senior Fish and Wildlife Biologist, by email at chris_dellith@fws.gov, via phone at 805-644-1766, or by U.S. mail at 2493 Portola Road, Suite B, Ventura, CA 93003. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Angie Harbin, Director—Natural Resources, Rincon Consultants, Inc., on behalf of Comstock Homes (applicant) for an incidental take permit (ITP) under the Endangered Species Act of 1973, as amended (ESA; 16 U.S.C. 1531 et seq.). The applicant requests the ITP to take the federally threatened coastal California gnatcatcher (Polioptila californica californica) incidental to the development of a mixed-density residential community (project) in the City of Moorpark, Ventura County, California. We request public comment on the application, which includes the applicant's habitat conservation plan (HCP), and on the Service's preliminary determination that this proposed ITP qualifies as low effect, and may qualify for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we prepared a low-effect screening form, also available for public review.

Background

On March 30, 1993 (58 FR 16742), the Service listed the coastal California gnatcatcher (Polioptila californica californica) as threatened. Section 9 of the ESA prohibits “take” of fish and wildlife species listed as endangered (16 U.S.C. 1538), where take is defined to include the following activities: “to harass, harm, pursue, hunt, shoot, wound, kill, trap, capture, or collect, or to attempt to engage in any such conduct” (16 U.S.C. 1532). The take prohibitions of section 9 are extended to species listed as threatened at the discretion of the Secretary of the Department of the Interior and were extended to coastal California gnatcatcher, with exceptions. The Service published a 4(d) rule, which includes exceptions to incidental take associated land-use activities addressed in an approved Natural Community Conservation Planning Act program undertaken by the State of California and local governments (December 10, 1993; 58 FR 65088).

Under section 10(a)(1)(B) of the ESA (16 U.S.C. 1539(a)(1)(B)), we may issue permits to authorize take of listed fish and wildlife species that is incidental to, and not the purpose of, carrying out an otherwise lawful activity. Regulations governing incidental take permits for endangered and threatened species are in the Code of Federal Regulations (CFR) at 50 CFR 17.22 and 17.32, respectively. Issuance of an ITP also must not jeopardize the existence of federally listed fish, wildlife, or plant species. The permittee would receive assurances under our “No Surprises” regulations (50 CFR 17.22(b)(5) and 17.32(b)(5)).

Applicant's Proposed Activities

The applicant has applied for a permit for incidental take of the coastal California gnatcatcher. The take would occur in association with activities necessary for the development of a largely vacant 277.30-acre (ac) site by constructing residences, a neighborhood park site, and flood-control facilities, as well as enhancement of disturbed coastal sage scrub vegetation on 52.77 ac of conserved land for the coastal California gnatcatcher.

The HCP includes avoidance and minimization measures for the coastal California gnatcatcher, and mitigation for unavoidable loss of occupied habitat. The applicant will commensurately offset impacts by placing conservation easements over approximately 29.44 ac of the project site and enhancing 23.33 ac on adjacent parcels of conserved open space areas owned by the City of Moorpark.

Public Availability of Comments

If you submit a comment at https://www.regulations.gov, your entire comment, including any personal identifying information, will be posted on the website.

If you submit a hardcopy comment that includes personal identifying information, such as your address, phone number, or email address, you should be aware that your entire comment, including your personal identifying information, may be made publicly available at any time. While you can ask us in your hardcopy document to withhold your personal identifying information from public review, we cannot guarantee that we will be able to do so.

Our Preliminary Determination

The Service has made a preliminary determination that the applicant's proposed project would individually and cumulatively have a minor effect on the coastal California gnatcatcher and the human environment. Therefore, we have preliminarily determined that the proposed ESA section 10(a)(1)(B) permit would be a “low-effect” ITP that individually or cumulatively would have a minor effect on the species and may qualify for application of a categorical exclusion pursuant to the Council on Environmental Quality's NEPA regulations, DOI's NEPA regulations, and the DOI Departmental Manual. A “low-effect” ITP is one that would result in (1) minor or nonsignificant effects on species covered in the HCP; (2) nonsignificant effects on the human environment; and (3) impacts that, when added together with the impacts of other past, present, and reasonable foreseeable actions, would not result in significant cumulative effects to the human environment.

Next Steps

The Service will evaluate the application and the comments received to determine whether to issue the requested ITP. We will also conduct an intra-Service consultation pursuant to section 7 of the ESA to evaluate the effects of the proposed take. After considering the preceding and other matters, we will determine whether the permit issuance criteria of section 10(a)(1)(B) of the ESA have been met. If met, the Service will issue an ITP to the applicant.

Authority

We provide this notice under section 10(c) of the Endangered Species Act (16 U.S.C. 1531 et seq.) and its implementing regulations (50 CFR 17.22 and 17.32) and the National Environmental Policy Act (42 U.S.C. 4321 et seq.) and its implementing regulations (40 CFR 1500-1508 and 43 CFR 46).

Catherine Darst,
Acting Field Supervisor, Ventura Fish and Wildlife Office, Ventura, California.

[FR Doc. 2025-00230 Filed 1-7-25; 8:45 am]

BILLING CODE 4333-15-P